ENVIRONMENTAL PROTECTION AGENCY

40 CFR Part 52

[EPA-R09-OAR-2023-0203; FRL-10757-01-R9]

Approval and Promulgation of Implementation Plans; Revisions to the California State Implementation Plan; San Francisco Bay Area

AGENCY: Environmental Protection Agency (EPA).

ACTION: Proposed rule.

SUMMARY: The Environmental Protection Agency (EPA) is proposing under the Clean Air Act (CAA or “Act”) to approve a revision to the San Francisco Bay Area portion of the California State Implementation Plan (SIP). This revision consists of updated transportation conformity procedures related to the interagency coordination on project-level conformity and exchange of travel data for emissions inventories developed for air quality plans and regional transportation conformity analyses. The intended effect is to update the transportation conformity criteria and procedures in the California SIP.

DATES: Comments must be received on or before August 28, 2023.

ADDRESSES: Submit your comments, identified by Docket ID No. EPA-R09-OAR-2023-0203 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Michael Dorantes, Geographic Strategies and Modeling Section (AIR-2-2), EPA Region IX, 75 Hawthorne Street, San Francisco, CA 94105, (415) 972-3934, or by email at dorantes.michael@epa.gov.

SUPPLEMENTARY INFORMATION: Throughout this document, “we,” “us,” and “our” refer to the EPA.

Table of Contents

I. Transportation Conformity

II. Background and State Submittal

III. The EPA's Evaluation

IV. Summary of Our Proposed Action

V. Statutory and Executive Order Reviews

I. Transportation Conformity

Transportation conformity is required under section 176(c) of the CAA to ensure that federally supported highway, transit projects, and other activities are consistent with (“conform to”) the purpose of the SIP. Conformity to the purpose of the SIP means that transportation activities will not cause new air quality violations, worsen existing violations, or delay timely attainment of the relevant national ambient air quality standards (NAAQS). Transportation conformity currently applies to areas that are designated nonattainment, and to areas that have been redesignated to attainment after 1990 (maintenance areas) with plans developed under section 175A of the Act. This applies for the following transportation-related criteria pollutants: ozone, fine and coarse particulate matter (PM2.5 and PM10), carbon monoxide (CO), and nitrogen dioxide (NO2), as well as criteria pollutant precursors. The transportation conformity regulation is found in 40 CFR part 93 and provisions related to conformity SIPs are found in 40 CFR 51.390.

On November 24, 1993, the EPA promulgated the federal transportation conformity criteria and procedures (“conformity rule”). Among other things, the conformity rule required states to address all of its provision in their SIPs (“conformity SIPs”).¹ The requirements were subsequently revised on August 10, 2005, when the “Safe, Accountable, Flexible, Efficient Transportation Equity Act: A Legacy for Users” (SAFETEA-LU) was signed into law. SAFETEA-LU revised section 176(c) of the CAA's transportation conformity provisions. One of the changes streamlined the requirements for conformity SIPs. Under SAFETEA-LU, states are required to address and tailor only three sections of the conformity rule in their conformity SIPs: 40 CFR 93.105, 40 CFR 93.122(a)(4)(ii), and 40 CFR 93.125(c). These sections address consultation procedures (40 CFR 93.105); written commitments to control measures that are not included in a metropolitan planning organization's (MPO's) transportation plan and transportation improvement program that must be obtained prior to a conformity determination, and the requirement that such commitments, when they exist, must be fulfilled (40 CFR 93.122(a)(4)(ii)); and written commitments to mitigation measures that must be obtained prior to a project-level conformity determination, and the requirement that project sponsors must comply with such commitments, when they exist (40 CFR 93.125(c)). In general, states are no longer required to submit conformity SIP revisions that address the other sections of the conformity rule but may elect to include any other provision of 40 CFR part 93, subpart A.² These changes took effect when SAFETEA-LU was signed into law.

¹ 58 FR 62188 (November 24, 1993).

² 40 CFR 51.390(b).

II. Background and State Submittal

For transportation planning purposes, the San Francisco Bay Area is defined as the nine California counties of Alameda, Contra Costa, Marin, Napa, San Francisco, San Mateo, Santa Clara, Solano, and Sonoma. Transportation planning in the San Francisco Bay Area is conducted by the Metropolitan Transportation Commission (MTC).³ As the San Francisco Bay Area MPO, the MTC develops regional transportation plans and transportation improvement plans for the area. By contrast, for air quality planning purposes, the San Francisco Bay Area is defined as all the same counties, except the eastern portion of Solano County and the northern half of Sonoma County are excluded. This planning area is designated as nonattainment for several 8-hour ozone NAAQS and for the 2006 PM2.5 standard.⁴ A portion of the San Francisco Bay Area, referred to as “urbanized areas,” was redesignated from nonattainment to attainment for the CO NAAQS in 1998. The areas within the San Francisco Bay Area, but outside the “urbanized areas,” were designated as unclassifiable/attainment for the CO NAAQS. The San Francisco Bay Area is considered unclassifiable/attainment for the other NAAQS.⁵

³ California Government Code section 66500 et seq.

⁴ 40 CFR 81.305.

⁵ Id.

On December 16, 1996, the Governor's designee for SIP submittals, the California Air Resources Board (CARB), submitted “The San Francisco Bay Area Transportation Air Quality Conformity Protocol—Conformity Procedures” and “The San Francisco Bay Area Transportation Air Quality Conformity Protocol—Interagency Consultation Procedures,” together referred to as the “San Francisco Bay Area conformity SIP submittal” to the EPA. The EPA approved the San Francisco Bay Area conformity SIP submittal on October 21, 1997.⁶

⁶ 62 FR 54587 (October 21, 1997).

Following SAFETEA-LU's enactment in 2005, the co-lead agencies for air quality planning in the San Francisco Bay Area, i.e., Bay Area Air Quality Management District (BAAQMD), the MTC, and Association of Bay Area Governments (ABAG), revised the San Francisco Bay Area conformity SIP to reflect the SAFETEA-LU changes and to clarify interagency consultation procedures. The revisions, referred to as the Transportation Air Quality Conformity Protocol, were adopted by the BAAQMD Board of Directors on July 19, 2006, by the ABAG Executive Board on July 20, 2006, and by the MTC on July 26, 2006. The MTC subsequently sent the transportation conformity protocol to CARB. On December 20, 2006, CARB adopted the transportation conformity protocol as a revision to the California SIP and submitted the protocol to the EPA for approval. The EPA approved the SIP revision on October 12, 2007.⁷

⁷ 72 FR 58013 (October 12, 2007).

The eastern portion of Solano County is in the Sacramento Metropolitan air quality planning area, which is also designated nonattainment for the same 8-hour ozone and PM2.5 NAAQS as the San Francisco Bay Area. For the Sacramento Metropolitan area, transportation planning is conducted by the Sacramento Area Council of Governments (SACOG).

Effective May 12, 1994, the MTC and SACOG entered into the original “Memorandum of Understanding between the Metropolitan Transportation Commission and the Sacramento Area Council of Governments” to establish an agreement regarding Federal conformity procedures and programming of Federal Congestion Mitigation and Air Quality (CMAQ) funds in Solano County. The MTC and SACOG then amended the original Memorandum of Understanding (MOU) in 2004 to provide clarity regarding their responsibilities during a conformity lapse.

The MTC and SACOG updated the Memorandum of Understanding between the two agencies (“revised MTC-SACOG MOU” or “revised MOU”) again in 2018. The MTC approved resolution No. 2611, Revised, on July 6, 2018, and MTC's and SACOG's executive directors executed the MOU on September 11, 2018.⁸ To provide further clarification regarding the updated coordination between the MTC and SACOG, the BAAQMD, the MTC, and ABAG proposed further revisions to the San Francisco Bay Area Transportation Air Quality Conformity Protocol (“revised transportation conformity protocol” or “revised protocol”). On February 26, 2020, MTC adopted a resolution approving the revisions.⁹ Following the MTC's adoption of the resolution, the BAAQMD adopted the revisions on March 4, 2020,¹⁰ and ABAG adopted the revisions on April 23, 2020.¹¹ The BAAQMD then submitted the revisions to CARB for approval on June 11, 2020.¹² CARB subsequently adopted the revised protocol on May 6, 2021,¹³ and submitted it the EPA for approval on May 17, 2021.¹⁴

⁸ Metropolitan Transportation Commission Resolution No. 2611. Revised, MTC/Sacramento Area Council of Governments (SACOG) Memorandum of Understanding (MOU) for Air Quality Planning in Eastern Solano County.

⁹ Metropolitan Transportation Commission Resolution No. 3757, “Re: Approval of San Francisco Bay Area Transportation Air Quality Conformity Protocol,” February 26, 2020.

¹⁰ BAAQMD Board of Directors Regular Meeting Agenda Item #6 and BAAQMD Board of Directors Regular Meeting Approved Minutes, March 4, 2020.

¹¹ ABAG Executive Board Resolution No. 04-2020, “Authorizing Approval of Proposed Final San Francisco Bay Area Transportation Air Quality Conformity Protocol and Interagency Consultation Procedures,” April 23, 2020.

¹² Letter from Jack P. Broadbent, Executive Officer and Air Pollution Control Officer, BAAQMD, to Richard Corey, Executive Officer, CARB. Re: San Francisco Bay Area State Implementation Plan Amended Transportation Air Quality Conformity Protocol (Dated June 11, 2020).

¹³ CARB Executive Order R-20-005, “Approval of the Amended San Francisco Bay Area Transportation Air Quality Conformity Protocol as a Revision to the California State Implementation Plan,” approved May 6, 2021.

¹⁴ In addition to other supporting documents, the submittal package included the following documents: “San Francisco Bay Area Transportation Air Quality Conformity Protocol, Revised: February 26, 2020; Amended and Restated Memorandum of Understanding Between The Metropolitan Transportation Commission and The Sacramento Area Council of Governments, (September 11, 2018); Letter dated May 6, 2021, (submitted electronically May 17, 2021), from Richard W. Corey, Executive Officer, CARB, to Deborah Jordan, Acting Regional Administrator, EPA Region IX, Subject: “San Francisco Bay Area State Implementation Plan Amended Transportation Air Quality Conformity Protocol.”

The most recent revision to the transportation conformity protocol supersedes the 2006 revision and is the subject of this proposed action. The revised protocol largely retains the content of the previous protocol adopted in 2006 but contains revisions explicitly reflecting the revised MOU language along with some other content changes. A notable revision is the addition of a new standalone section (“Section X”), entitled “Addressing Activities and Emissions that Cross MPO Boundaries.” Section X retains relevant text from the previous transportation conformity protocol and references revisions made within the revised MTC-SACOG MOU that clarify MTC and SACOG roles and responsibilities related to updated Federal transportation air quality requirements. These address the responsibilities related to the programming of Federal CMAQ funds, coordination between the MTC and SACOG when exchanging travel data for emissions inventories, and coordination between the MTC and SACOG when conducting project-level and regional conformity, including procedures to follow in the event of a conformity lapse and considerations for new PM2.5 hot-spot analysis requirements.

The updated SIP revision that CARB submitted to the EPA consisted of the revised transportation conformity protocol, as well as documents from the MTC, ABAG, the BAAQMD, and CARB adopting the revisions. In November 2019, the BAAQMD and ABAG delegated authority to the MTC to conduct a public hearing on the proposed conformity protocol.¹⁵ The MTC provided notice of a 30-day public comment period beginning on December 27, 2019,¹⁶ and held a public hearing on January 10, 2020, on the revised protocol.¹⁷ The MTC received no comments other than a suggested non-substantive edit from the EPA.

¹⁵ Letter from Jack P. Broadbent, Executive Officer and Air Pollution Control Officer, BAAQMD, to Richard Corey, Executive Officer, CARB. Re: San Francisco Bay Area State Implementation Plan Amended Transportation Air Quality Conformity Protocol (Dated June 11, 2020).

¹⁶ Metropolitan Transportation Commission Notice of Public Hearing: “Draft Bay Area Transportation Air Quality Conformity Protocol (MTC Resolution No. 3757 Revised).”

¹⁷ Metropolitan Transportation Commission, Planning Committee, “Public Hearing: MTC Resolution No. 3757, Revised: Draft Bay Area Transportation Air Quality Conformity Protocol,” January 10, 2020.

III. The EPA's Evaluation

We have reviewed the submittal to ensure consistency with the Clean Air Act and with EPA regulations (40 CFR part 93 and 40 CFR 51.390) governing state procedures for transportation conformity and interagency consultation and have concluded that the submittal is approvable. The public comment period and hearing the MTC held for this SIP revision satisfies the requirements of CAA section 110(l) and 40 CFR 51.102. Additional details of our review are set forth in a technical support document (TSD), which has been included in the docket for this proposed rulemaking. Specifically, in our TSD, we identify how the submitted procedures satisfy our requirements under 40 CFR 93.105 for interagency consultation with respect to the development of transportation plans and programs, SIPs, and conformity determinations, the resolution of conflicts, the provision of adequate public consultation, and our requirements under 40 CFR 93.122(a)(4)(ii) and 93.125(c) for enforceability of control measures and mitigation measures.

IV. Summary of Our Proposed Action

In accordance with section 110(k) of the Act, and for the reasons set forth in Section III of this document, the EPA is proposing to approve the “San Francisco Bay Area Air Quality Conformity Protocol—Conformity Procedures and Interagency Consultation Procedures” as a revision to the California SIP.

If we finalize our action as proposed, the revised protocol adopted by the BAAQMD on March 4, 2020, by ABAG on April 23, 2020, and by the MTC February 26, 2020, then adopted on May 6, 2021, and submitted to the EPA on May 17, 2021 by CARB, will be incorporated into the San Francisco Bay Area portion of the California SIP, and thereby replace the previous version of the revised protocol approved on October 11, 2007.

The EPA is soliciting public comments on the issues discussed in this document. We will accept comments from the public on this proposal until August 28, 2023, and will consider comments before taking final action.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The air agency did not evaluate environmental justice considerations as part of its SIP submittal; the CAA and applicable implementing regulations neither prohibit nor require such an evaluation. The EPA did not perform an EJ analysis and did not consider EJ in this action. Due to the nature of the proposed action being taken here, this action is expected to have a neutral to positive impact on the air quality of the affected area. Consideration of EJ is not required as part of this proposed action, and there is no information in the record inconsistent with the stated goal of E.O. 12898 of achieving environmental justice for people of color, low-income populations, and Indigenous peoples.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental Relations, Nitrogen oxides, Ozone, Particulate matter, Reporting and recordkeeping requirements, Volatile organic compounds.

Authority: 42 U.S.C. 7401 et seq.

Dated: July 17, 2023.
Martha Guzman Aceves,
Regional Administrator, Region IX.

[FR Doc. 2023-15498 Filed 7-26-23; 8:45 am]

BILLING CODE 6560-50-P